DEPARTMENT OF TRANSPORTATION

Federal Railroad Administration

[Docket No. FRA-2000-7257; Notice No. 38]

Railroad Safety Advisory Committee; Notice of Meeting

AGENCY: Federal Railroad Administration (FRA), Department of Transportation (DOT).

ACTION: Notice of the Railroad Safety Advisory Committee (RSAC) meeting.

SUMMARY: FRA announces the next meeting of the RSAC, a Federal Advisory Committee that develops railroad safety regulations through a consensus process. The RSAC meeting topics include opening remarks from the FRA Administrator, an update on the National Rail Safety Action Plan, a discussion of track issues, hazardous material non-accident releases, a rail security update, and the Collision Analysis Study (concluding work previously undertaken by the Collision Analysis Working Group). Status reports will be given on the Passenger Safety, Railroad Operating Rules, and Roadway Worker Safety working groups. The report of the Railroad Operating Rules Working Group is expected to be its final report on preparation of a notice of proposed rulemaking to address three principal causes of human factor train accidents, and the Committee may be asked to vote on the recommendations contained in that report if available sufficiently in advance of the meeting. The Committee will be asked to vote to accept a task to review and revise the Railroad Locomotive Safety Standards, and FRA may offer a task regarding improvement of the Track Safety Standards (including resolution of issues raised in comments under the interim final rule on joint integrity in continuous welded rail).

DATES: The meeting of the RSAC is scheduled to commence at 9:30 a.m., and conclude at 4 p.m., on Wednesday, February 22, 2006.

ADDRESSES: The meeting of the RSAC will be held at the Washington Plaza, 10 Thomas Circle, NW., Washington, DC 20005, (at Massachusetts Avenue and 14th Street), (202) 842-1300. The meeting is open to the public on a first-come, first-serve basis, and is accessible to individuals with disabilities. Sign and oral interpretation can be made available if requested 10 calendar days before the meeting.

FOR FURTHER INFORMATION CONTACT: Patricia Butera, RSAC Coordinator, FRA, 1120 Vermont Avenue, NW., Stop 25, Washington, DC 20590, (202) 493-6212 or Grady Cothen, Deputy Associate Administrator for Safety Standards and Program Development, FRA, 1120 Vermont Avenue, NW., Mailstop 25, Washington, DC 20590, (202) 493-6302.

SUPPLEMENTARY INFORMATION: Pursuant to Section 10(a)(2) of the Federal Advisory Committee Act (Pub. L. 92-463), FRA is giving notice of a meeting of the RSAC. The meeting is scheduled to begin at 9:30 a.m., and conclude at 4 p.m., on Wednesday, February 22, 2006. The meeting of the RSAC will be held at the Washington Plaza, 10 Thomas Circle, NW., Washington, DC 20005, (at Massachusetts Avenue and 14th Street), (202) 842-1300. RSAC was established to provide advice and recommendations to the FRA on railroad safety matters. The Committee consists of 48 individual voting representatives and five associate representatives drawn from among 30 organizations representing various rail industry perspectives, two associate representatives from the agencies with railroad safety regulatory responsibility in Canada and Mexico, and other diverse groups. Staffs of the National Transportation Safety Board and the Federal Transit Administration also participate in an advisory capacity.

See the RSAC Web site for details on pending tasks at: http://rsac.fra.dot.gov. Please refer to the notice published in the Federal Register on March 11, 1996, (61 FR 9740) for more information about the RSAC.

Issued in Washington, DC on January 17, 2006.
Grady C. Cothen, Jr.,
Deputy Associate Administrator for Safety Standards and Program Development.

[FR Doc. E6-859 Filed 1-24-06; 8:45 am]

BILLING CODE 4910-06-P